DEPARTMENT OF COMMERCE

National Oceanic and Atmospheric Administration

RIN 0648-XC421

Mid-Atlantic Fishery Management Council; Public Meeting

AGENCY: National Marine Fisheries Service (NMFS), National Oceanic and Atmospheric Administration (NOAA), Commerce.

ACTION: Notice of a public meeting.

SUMMARY: The Mid-Atlantic Fishery Management Council (Council) announces its intent to hold a workshop. The purpose of the workshop is to consider options for improving the management of the longfin and Illex squid fisheries, with a focus on responsive harvest strategies that account for changing stock conditions over the course of the year. The Council intends for managers, scientists, and fishermen to collaboratively consider if responsive harvest strategies are feasible and appropriate for optimizing yield in these fisheries. Discussions at the workshop will culminate in a workshop report and a series of follow-up port meetings that will inform consideration of future management actions.

DATES: The workshop will be held from 1 p.m. Tuesday, January 15, 2013 until 1 p.m. Thursday, January 17, 2013.

ADDRESSES: The workshop will be held at: Hyatt Place Long Island/East End; 451 East Main Street; Riverhead, NY 11901; telephone: (631) 208-0002.

FOR FURTHER INFORMATION CONTACT: Chris Moore, Ph.D., Executive Director, Mid-Atlantic Fishery Management Council, (302) 526-5255, or Jason Didden, Mackerel-Squid-Butterfish Plan Coordinator, (302) 526-5254.

SUPPLEMENTARY INFORMATION: Additional information (agenda, briefing materials, meeting summary, etc) will be posted to: http://www.mafmc.org/fmp/msb.htm.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is accessible to people with physical disabilities. Requests for sign language interpretation or other auxiliary aids should be directed to Chris Moore, Ph.D. (see FOR FURTHER INFORMATION CONTACT) at least 5 days prior to the meeting date.

Authority: 16 U.S.C. 1801 et seq.

Dated: December 26, 2012.
Tracey L. Thompson,
Acting Deputy Director, Office of Sustainable Fisheries, National Marine Fisheries Service.

[FR Doc. 2012-31358 Filed 12-28-12; 8:45 am]

BILLING CODE 3510-22-P